SECURITIES AND EXCHANGE COMMISSION

[File No. 500-1]

Southern USA Resources, Inc., Order of Suspension of Trading

March 1, 2013.

It appears to the Securities and Exchange Commission that there is a lack of current and accurate information concerning the securities of Southern USA Resources, Inc. (“Southern USA”) because of questions regarding the accuracy of publicly-disseminated information concerning, among other things: (1) the company's operations; and (2) the company's outstanding shares. Southern USA's securities are quoted on the OTC Link, operated by OTC Markets Group Inc., under the ticker symbol “SUSA.”

The Commission is of the opinion that the public interest and the protection of investors require a suspension of trading in the securities of the above-listed company.

Therefore, it is ordered, pursuant to Section 12(k) of the Securities Exchange Act of 1934, that trading in the securities of the above-listed company is suspended for the period from 9:30 a.m. e.s.t., on March 1, 2013 through 11:59 p.m. e.d.t., on March 14, 2013.

By the Commission.
Elizabeth M. Murphy,
Secretary.

[FR Doc. 2013-05147 Filed 3-1-13; 11:15 am]

BILLING CODE 8011-01-P